DEPARTMENT OF AGRICULTURE

Privacy Act of 1974; Revised System of Records

AGENCY: Office of the Chief Financial Officer (OCFO), National Finance Center (NFC).

ACTION: Notice of a modified system of records.

SUMMARY: In accordance with the Privacy Act of 1974, as amended, and Office of Management and Budget Circular No. A-108, the U.S. Department of Agriculture (USDA) proposed revised system of records, the Personnel and Payroll System for USDA Employees (OP-1), will be renamed—Office of the Chief Financial Officer (OCFO), National Finance Center (NFC), Systems for Personnel, Payroll, and Time & Attendance. OCFO/NFC-1 Systems for Personnel, Payroll, and Time & Attendance provides comprehensive, cost-effective, and reliable services as well as automated, accurate, and timely actions necessary for recording, processing, and reporting personnel, payroll, and time and attendance data for USDA and other Federal agencies serviced by NFC. These systems are full-service, integrated payroll, personnel, and time and attendance applications that link personnel actions, and processing payroll activities. The OCFO/NFC-1 Systems for Personnel, Payroll, and Time & Attendance processes personnel actions, awards, allotments, performance appraisals, health and life insurance, thrift savings plan, tax documents, severance pay, leave record, time, & attendance, payroll-related financial reporting operations, retirements, and management of debt collection on behalf of federal agencies related to employee debt.

DATES: In accordance with 5 U.S.C. 552a(e)(4) and (11), this notice is effective upon publication, subject to a 30-day notice and comment period in which to comment on the routine uses described in the routine uses section of this system of records notice. Please submit your comments by February 28, 2024.

ADDRESSES: Comments may be submitted by one of the following methods:

—Federal eRulemaking Portal: This website provides the ability to type short comments directly into the comment field on this web page or attach a file for lengthier comments. Go to https://www.regulations.gov. Follow the on-line instructions at that site for submitting comments.

—Postal Mail/Commercial Delivery: National Finance Center, USDA, OCFO, National Finance Center, P.O. Box 60000, New Orleans, Louisiana 70160 or email nfc.1.sorn@usda.gov.

—Instructions: All items submitted by mail or electronic mail must include the Agency name and docket number USDA-2022-0008. Comments received in response to this docket will be made available for public inspection and posted without change, including any personal information, to https://www.regulations.gov.

FOR FURTHER INFORMATION CONTACT: For general questions, please contact the National Finance Center, Director, 13800 Old Gentilly Road, Building 318, New Orleans, LA 70129, email NFC.1.SORN@usda.gov or call 504-426-0120.

—For Privacy Act questions concerning this revised system of records notice, please contact USDA Departmental Administration Information Technology Office, Office of the Chief Information Officer, United States Department of Agriculture, email at: ocio.cio.daitoservices@usda.gov, or by phone at: 202-577-8071.

—For general USDA Privacy Act questions, please contact the USDA Chief Privacy Officer, Information Security Center, Office of the Chief Information Officer, USDA, Jamie L. Whitten Building, 100 Independence Ave. SW, Washington, DC 20250, email: USDAprivacy@usda.gov.

SUPPLEMENTARY INFORMATION: The purposes of the system's revisions are: (1) Renaming the system of records notice; (2) Expanding the categories of individuals on whom the records are maintained in the system; (3) Updating the categories of records maintained in the system; (4) Updating the Location of the system of records; and (5) Updating Routine Uses.

SYSTEM NAME AND NUMBER:

OCFO/NFC-1 Systems for Personnel, Payroll, and Time & Attendance.

SECURITY CLASSIFICATION:

Unclassified.

SYSTEM LOCATION:

The OCFO/NFC-1 Systems for Personnel, Payroll, and Time & Attendance is maintained at the Enterprise Data Center—Kansas City, Kansas City, MO 64114. Records can be located at NFC customer locations.

SYSTEM MANAGER(S):

Director, National Finance Center, 13800 Old Gentilly Road, Building 318, New Orleans, LA 70129, nfc.1.sorn@usda.gov, 504-426-0120.

Chief Financial Officers Act of 1990 Public Law 101-576.

PURPOSE OF THE SYSTEM:

The purpose of the OCFO/NFC-1 Systems for Personnel, Payroll, and Time & Attendance is to provide comprehensive, cost- effective, and reliable services as well as automated, accurate, and timely actions necessary for recording, processing, and reporting personnel, payroll, and time and attendance data for USDA and non-USDA agencies serviced by NFC. These systems are a full-service, integrated payroll, personnel, and time and attendance applications that link personnel actions and payroll activities.

CATEGORIES OF INDIVIDUALS COVERED BY THE SYSTEM:

USDA and non-USDA Federal Employees, former employees, contractors, permittees, cooperators, and applicants for Federal employment whose personnel, payroll, and time & attendance records are serviced by NFC are covered by the system.

CATEGORIES OF RECORDS IN THE SYSTEM:

The systems consist of current and historical personnel, payroll, and time and attendance records.

RECORD SOURCE CATEGORIES:

Information in these systems come from Federal agencies, employees, contractors, managers, agency human resources offices, agency payroll and personnel offices, individuals on whom the record is maintained, educational institutions, and agency officials.

ROUTINE USES OF RECORDS MAINTAINED IN THE SYSTEM, INCLUDING CATEGORIES OF USERS AND PURPOSES OF SUCH USES:

In addition to those disclosures generally permitted under 5 U.S.C. 552a(b) of the Privacy Act of 1974, records contained in this system may be disclosed outside USDA as a routine use pursuant to 5 U.S.C. 552a(b)(3), to the extent that such uses are compatible with the purposes for which the information was collected. Such permitted routine uses include the following:

(1) Office of Personnel Management for required action, records, and reports;

(2) Department of Treasury for issuance of checks and bonds;

(3) Department of Labor for Office of Workers Compensation

(4) Congress for special reports, or in response to an inquiry from a Congressional office made at the written request of the individual about whom the record pertains;

(5) White House for special reports;

(6) Office of Management and Budget for special reports;

(7) General Accounting Office for special Reports;

(8) Disclosure to the Department of Justice (DOJ) for use in litigation when: (a) the agency or any component thereof; or (b) any employee of the agency in his or her official capacity where DOJ has agreed to represent the employee; or the United States Government is a party to litigation or has an interest in such litigation;

(9) General Services Administration for records retirement and/or destruction;

(10) State Department for passport and foreign assignments;

(11) Department of Transportation, Environmental Protection Agency and cooperating state and local agencies for accident and safety records;

(12) Internal Revenue Service and State and local government for matters in connection with payment of income taxes;

(13) Social Security Administration for social security payment Information;

(14) Combined Federal Campaign for reports and records;

(15) Department of Health and Human Services for scheduling physical examinations;

(16) All Government agencies and potential employers concerning employment inquiries;

(17) Equal Employment Opportunity Commission for handling Complaints;

(18) appropriate agency, whether Federal, State, local or foreign, charged with the responsibility of investigating or prosecuting a violation of law, or of enforcing or implementing a statute or a rule, regulation or order issued pursuant thereto, of any record within this system when information available indicates a violation or potential violation of law, whether, civil, criminal, or regulatory in nature, and whether arising by general statue or other particular program statute, or by rule, regulation or order issued pursuant thereto;

(19) a court, magistrate, or administrative tribunal, or to opposing counsel in a proceeding before any of the above, of any record within the system which constitutes evidence in that proceeding, or which is sought in the course of discovery to the extent that USDA determines that the records are relevant to the proceedings;

(20) any agency of the Federal Government which has identified USDA or Non-USDA employees as having defaulted in the repayment of an obligation incurred under any statutory authority except the Internal Revenue Code, the Social Security Act, or the U.S. tariff laws;

(21) the Internal Revenue Service to enable it to offset and satisfy past due, legally enforceable debts owed to USDA against Federal income tax refunds;

(22) labor organizations recognized under 5 U.S.C. Chapter 71 to provide home addresses or designated mailing addresses of bargaining unit employees;

(23) the cooperator(s) selected to evaluate personnel-related demonstration projects;

(24) The names, social security numbers, home addresses, dates of birth, dates of hire, quarterly earnings, employer identifying information and State of hire of employees may be disclosed to the Office of Child Support Enforcement, Administration for Children and Families, Department of Health and Human Services for the purpose of locating individuals to establish paternity, establishing and modifying sources of income, and for other child support enforcement actions as required by the Personal Responsibility and Work Opportunity Reconciliation Act of 1966 (Pub. L. 104-193). Se.

(25) To the Department of Justice (DOJ) when: (a) USDA or Non-USDA or any component thereof; or (b) any employee of USDA or Non-USDA in his or her official capacity where the Department of Justice has agreed to represent the employee; or (c) the United States Government, is a party to litigation or has an interest in such litigation, and USDA or Non-USDA determines that the records are both relevant and necessary to the litigation and the use of such records by the Department of Justice is deemed by USDA or Non-USDA to be for a purpose that is compatible with the purpose for which USDA or Non-USDA collected the records.

(26) To a congressional office in response to an inquiry from that Congressional office made at the written request of the individual about whom the record pertains;

(27) To the National Archives and Records Administration (NARA) or other Federal government agencies pursuant to records management activities being conducted under 44 U.S.C. 2904 and 2906;

(28) To appropriate agencies, entities, and persons when (1) USDA suspects or has confirmed that the security or confidentiality of information in the system of records has been compromised; (2) USDA has determined that as a result of the suspected or confirmed breach, there is a risk of harm to individuals, USDA (including its information systems, programs, and operations), the Federal Government, or national security; and (3) the disclosure to such agencies, entities, and persons is reasonably necessary to assist in connection with USDA's efforts to respond to the suspected or confirmed compromise and prevent, minimize, or remedy such harm; or to another Federal agency or Federal entity, when information from this system of records is reasonably necessary to assist the recipient agency or entity in (1) responding to a suspected or confirmed breach; or (2) preventing, minimizing, or remedying the risk of harm to individuals, the agency (including its information systems, programs, and operations), the Federal Government, or national security.

(29) When a record on its face, or in conjunction with other records, indicates a violation or potential violation of law, whether civil, criminal or regulatory in nature, and whether arising by general statute or particular program, statute, or by regulation, rule, or order issued pursuant thereto, disclosure may be made to the appropriate Federal, State, local, foreign, Tribal, or other public authority responsible for enforcing, investigating, or prosecuting such violation or charged with enforcing or implementing the statute, or rule, regulation, or order issued pursuant thereto, if the information disclosed is relevant to any enforcement, regulatory, investigative or prosecutive responsibility of the receiving entity. Referral to the appropriate agency, whether Federal, State, local, or foreign, charged with the responsibility of investigating or prosecuting violation of law, or of enforcing or implementing a statute, rule, regulation, or order issued pursuant thereto, of any record within this system when information available indicates a violation or potential violation of law, whether civil, criminal, or regulatory in nature;

(30) To a court or adjudicative body in a proceeding when: (a) USDA or non-USDA or any component thereof; or (b) any employee of USDA in his or her official capacity; or (c) any employee of USDA in his or her individual capacity where USDA has agreed to represent the employee; or the United States Government is a party to litigation or has an interest in such litigation, and USDA determines that the records are both relevant and necessary to the litigation, and that use of such records is therefore deemed by USDA to be for a purpose that is compatible with the purpose for which USDA collected the records;

(31) To contractors and their agents, grantees, experts, consultants, and others performing or working on a contract, service, grant, cooperative agreement, or other assignment for the USDA or Non-USDA, when necessary to accomplish an agency function related to this system of records. Individuals providing information under this routine use are subject to the same Privacy Act requirements and limitations on disclosure as are applicable to USDA officers and employees;

(32) To appropriate agencies, entities, and persons (1) when NFC suspects or has confirmed that there has been a breach of the system of records, (2) NFC has determined that as a result of the suspected or confirmed breach there is a risk of harm to individuals, NFC (including its information systems, programs, and operations), the Federal Government, or national security and (3) the disclosure made to such agencies, entities, and persons are reasonably necessary to assist in connection with NFC efforts to respond to the suspected or confirmed breach or to prevent, minimize, or remedy such harm;

(33) To another Federal agency or Federal entity, when NFC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(34) To disclose relevant information with personal identifiers of Federal civilian employees whose records are contained in the Personnel, Payroll, and Time & Attendance System for USDA and Non-USDA Employees to an authorized Federal, State, tribal, local, or foreign agency, or other public authority. This will help eliminate waste, fraud, and abuse in Governmental programs or operations; to help identify individuals who are potentially in violation of civil or criminal law or regulation; and to collect debts and overpayments owed to Federal, State, or local governments and their components;

(35) To an agency or organization for the purpose of performing audit or oversight operations as authorized by law, but only such information as is necessary and relevant to such audit or oversight function.

POLICIES AND PRACTICIES FOR STORAGE OF RECORDS:

Electronic records are stored at the USDA Office of the Chief Information Officer (OCIO), Digital Infrastructure Services Center (DISC) Data Center, and Iron Mountain Digital Records Center. All other record formats are stored at the Federal Records Centers.

POLICIES AND PRACTICES FOR RETRIEVAL OF RECORDS:

These records are retrieved by various combinations of name, agency, birth date, social security number, or identification number of the individual on whom they are maintained.

POLICIES AND PRACTICES FOR RETENTION AND DISPOSAL OF RECORDS:

Records are retained and disposed of in accordance with approved NARA guidance, NFC Records Control Schedule N1-016-10-7.

Pursuant to this records schedule, records are retained for 56 years.

ADMINISTRATIVE, TECHNICAL, AND PHYSICAL SAFEGUARDS:

Paper or microfiche/microfilmed records are located at the Federal Records Centers. Access to computerized records is limited, through use of user logins and passwords, access codes, and entry logs, to those whose official duties require access.

Computerized records systems are consistent with the requirements of the Federal Information Security Management Act (Pub. L. 107-296), and associated OMB policies, standards and guidance from the National Institute of Standards and Technology.

RECORD ACCESS PROCEDURES:

Individuals seeking to gain access to a record in this system of records maycontact the NFC Director at the address listed above. Provide the NFC Director with the necessary particulars such as full legal name, date of birth, work address, country of citizenship. Requesters must also reasonably specify the record contents sought. The request must meet the requirements of the regulations at 34 CFR 5b.5, including proof of identity. All requests for access to records must be in writing and should be submitted to the NFC Director at the address listed above. A determination whether a record may be accessed will be made at the time a request is received.

CONTESTING RECORDS PROCEDURES:

Individuals seeking to contest or amend information maintained in the system should direct their request to the above listed NFC Director and should include the reason for contesting it and the proposed amendment to the information with supporting information to show how the record is inaccurate. A request for contesting records should contain: Name, address including zip code, name of the system of records, year of records in question, and any other pertinent information to help identify the data requested.

NOTIFICATION PROCEDURES:

Any individual may request information regarding this system of records, or information as to whether the system contains records pertaining to the individual, from the NFC Director listed above.

EXEMPTIONS PROMULGATED FOR THE SYSTEM:

None.

HISTORY:

Federal Register, Vol. 40, No. 167, August 27, 1975, page 38986-38989; Federal Register, Vol. 63, No 18, Wednesday, January 18, 1998.

Trudy Sandefer,
Deputy Director, GESD/NFC/OCFO/USDA.

[FR Doc. 2024-01680 Filed 1-26-24; 8:45 am]

BILLING CODE 3410-68-P